DEPARTMENT OF JUSTICE

[CPCLO Order No. 003-2013]

Privacy Act of 1974; System of Records

AGENCY: Executive Office for Organized Crime Drug Enforcement Task Forces (OCDETF), Department of Justice.

ACTION: Notice of a modified system of records.

SUMMARY: Pursuant to the Privacy Act of 1974, 5 U.S.C. 552a, and Office of Management and Budget (OMB) Circular No. A-130, notice is hereby given that the Department of Justice (Department or DOJ), Executive Office for OCDETF proposes to amend an existing system of records notice (SORN) entitled “Drug Enforcement Task Force Evaluation and Reporting System,” JUSTICE/DAG-003, last published in its entirety at 57 FR 8473, Mar. 10, 1992. This amendment reflects a reorganization of the Department of Justice establishing the Executive Office for OCDETF as a new component and the resulting transfer of responsibility for this system of records from the Office of the Deputy Attorney General to the Executive Office for OCDETF. Accordingly, the Executive Office for OCDETF is renaming this system as the “Organized Crime Drug Enforcement Task Forces Management Information System” (OCDETF MIS), changing the system number from JUSTICE/DAG-003 to JUSTICE/OCDETF-001, and making revisions to reflect the Executive Office of OCDETF's own record-keeping practices and the overall modernization and technological changes of the system. Accordingly, this modified SORN will replace the SORN for JUSTICE/DAG-003.

DATES: In accordance with 5 U.S.C. 552a(e)(4) and (11), the public is given a 30-day period in which to comment. Therefore, please submit any comments by October 15, 2013.

ADDRESSES: The public, OMB, and Congress are invited to submit any comments to the Department of Justice, ATTN: Privacy Analyst, Office of Privacy and Civil Liberties, U.S. Department of Justice, National Place Building, 1331 Pennsylvania Avenue NW., Suite 1000, Washington, DC 20530-0001, or by facsimile to 202-307-0693.

FOR FURTHER INFORMATION CONTACT: Jill Aronica, Chief Information Systems Section, Executive Office for OCDETF, 1331 Pennsylvania Avenue NW., Suite 1060, Washington, DC 20530-0001, phone 202-514-1860.

SUPPLEMENTARY INFORMATION: The OCDETF MIS is a case tracking and reporting system designed to provide a platform for OCDETF investigative and prosecutorial personnel to track and coordinate investigative efforts. In addition, the system provides the data necessary to evaluate OCDETF Program performance.

When this system was under the purview of the Office of the Deputy Attorney General, this system of records was exempted from certain provisions of the Privacy Act pursuant to 5 U.S.C. 552a(j) and (k). These exemptions are codified in the Code of Federal Regulations (CFR) section for exemptions of the Office of the Deputy Attorney General systems (28 CFR 16.71). The Department is establishing a new CFR section for exemptions of OCDETF systems (28 CFR 16.135) and redesignating the existing exemptions to be part of this new OCDETF section. In the meantime, the Department intends that the exemptions established in 28 CFR 16.71 will continue to apply to this system and all its records until 28 CFR 16.135 is effective.

In accordance with 5 U.S.C. 552a(r), the Department has provided a report to OMB and Congress on this modified system of records.

Dated: August 21, 2013.
Joo Y. Chung,
Acting Chief Privacy and Civil Liberties Officer, United States Department of Justice.

JUSTICE/OCDETF-001

SYSTEM NAME:

Organized Crime Drug Enforcement Task Forces Management Information System (OCDETF MIS).

SECURITY CLASSIFICATION:

Unclassified.

SYSTEM LOCATION:

OCDETF Fusion Center, Executive Office for OCDETF, U.S. Department of Justice, 1331 Pennsylvania Avenue NW., Suite 1060, Washington, DC 20530. Some or all system information may be duplicated at other locations for purposes of system backup, emergency preparedness, and continuity of operations.

CATEGORIES OF INDIVIDUALS COVERED BY THE SYSTEM:

This system encompasses individuals who are subjects or potential subjects of investigations under the OCDETF Program, including individuals who are charged with, convicted of, or known, suspected, or alleged to be involved with illicit drug trafficking, money laundering of drug proceeds, or other potentially related criminal activity. This system also covers individuals who are associated with or related to investigations under the OCDETF Program, including associates of subjects, witnesses, informants, and law enforcement and prosecutorial personnel.

CATEGORIES OF RECORDS IN THE SYSTEM:

Records consist of case-initiation forms, interim and final reports, indictment records, and disposition/sentencing forms, regarding potential or actual targets of OCDETF investigations, as well as related administrative records for state and local case participation.

AUTHORITY FOR MAINTENANCE OF THE SYSTEM:

Authorities for the maintenance of these records include 5 U.S.C. 301 and the Comprehensive Drug Abuse Prevention and Control Act of 1970, Public Law 91-513, 84 Stat. 1236 (21 U.S.C. 801 et seq.).

PURPOSE:

The purpose of this system of records is to facilitate the mission of the OCDETF Program, which is to reduce the illegal drug supply by identifying, disrupting, and dismantling the most significant international and domestic criminal enterprises engaged in illegal drug trafficking, laundering of drug proceeds, and related criminal activities. The OCDETF MIS is a case tracking and reporting system designed to provide a platform for OCDETF investigative and prosecutorial personnel to track and coordinate investigative efforts from the initiation of an OCDETF investigation through the closing of the case. In addition, the system provides the data necessary to evaluate OCDETF Program performance.

ROUTINE USES OF RECORDS MAINTAINED IN THE SYSTEM, INCLUDING CATEGORIES OF USERS AND THE PURPOSES OF SUCH USES:

In addition to those disclosures generally permitted under 5 U.S.C. 552a(b), relevant information contained in this system of records may be disclosed as follows:

(a) To any criminal, civil, or regulatory law enforcement authority (whether federal, state, local, territorial, tribal, or foreign) where the information is relevant to the recipient entity's law enforcement responsibilities.

(b) To a governmental entity lawfully engaged in collecting law enforcement, law enforcement intelligence, or national security intelligence information for such purposes.

(c) To any person, organization, or governmental entity in order to notify them of a serious terrorist threat for the purpose of guarding against or responding to such a threat.

(d) To any person or entity if deemed by OCDETF to be necessary in order to elicit information or cooperation from the recipient for use by OCDETF in the performance of an authorized law enforcement activity.

(e) To the Department of State and components thereof to further the efforts of those agencies with respect to the national security and foreign affairs aspects of international drug trafficking, money laundering, firearms trafficking, alien smuggling, terrorism, and related crimes.

(f) To the Department of Defense and components thereof to support its role in the detection and monitoring of the transportation of illegal drugs and money laundering in the United States or such other roles in support of counter-drug and money laundering law enforcement, counter-firearms trafficking, counter-alien smuggling, and related crimes as may be permitted by law.

(g) To the United Nations and its employees to the extent that the information is relevant to the recipient's law enforcement or international security functions.

(h) To the White House (the President, Vice President, their staffs, and other entities of the Executive Office of the President), and, during Presidential transitions, to the President-elect and Vice-President-elect and to their designated transition team staff, for coordination of activities that relate to or have an effect upon the carrying out of the constitutional, statutory, or other official or ceremonial duties of the President, President-elect, Vice President, or Vice-President-elect.

(i) To complainants and/or victims to the extent necessary to provide such persons with information and explanations concerning the progress and/or results of the investigation or case arising from the matters of which they complained and/or of which they were a victim.

(j) In an appropriate proceeding before a court, grand jury, or administrative or adjudicative body, when the Department of Justice determines that the records are arguably relevant to the proceeding; or in an appropriate proceeding before an administrative or adjudicative body when the adjudicator determines the records to be relevant to the proceeding.

(k) To an actual or potential party to litigation or the party's authorized representative for the purpose of negotiation or discussion on such matters as settlement, plea bargaining, or in informal discovery proceedings.

(l) To the news media and the public, including disclosures pursuant to 28 CFR 50.2, unless it is determined that release of the specific information in the context of a particular case would constitute an unwarranted invasion of personal privacy.

(m) To contractors, grantees, experts, consultants, students, and others performing or working on a contract, service, grant, cooperative agreement, or other assignment for the federal government, when necessary to accomplish an agency function related to this system of records.

(n) To designated officers and employees of state, local, territorial, or tribal law enforcement or detention agencies in connection with the hiring or continued employment of an employee or contractor, where the employee or contractor would occupy or occupies a position of public trust as a law enforcement officer or detention officer having direct contact with the public or with prisoners or detainees, to the extent that the information is relevant and necessary to the recipient agency's decision.

(o) To appropriate officials and employees of a federal agency or entity that requires information relevant to a decision concerning the hiring, appointment, or retention of an employee; the assignment, detail, or deployment of an employee; the issuance, renewal, suspension, or revocation of a security clearance; the execution of a security or suitability investigation; the letting of a contract; or the issuance of a grant or benefit.

(p) To a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

(q) To federal, state, local, territorial, tribal, foreign, or international licensing agencies or associations which require information concerning the suitability or eligibility of an individual for a license or permit.

(r) To a Member of Congress or staff acting upon the Member's behalf when the Member or staff requests the information on behalf of, and at the request of, the individual who is the subject of the record.

(s) To the National Archives and Records Administration (NARA) for purposes of records management inspections conducted under the authority of 44 U.S.C. 2904 and 2906.

(t) To appropriate agencies, entities, and persons when (1) the Department suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

(u) To such recipients and under such circumstances and procedures as are mandated by federal statute or treaty.

DISCLOSURE TO CONSUMER REPORTING AGENCIES:

None.

POLICIES AND PRACTICES FOR STORING, RETRIEVING, ACCESSING, RETAINING, AND DISPOSING OF RECORDS IN THE SYSTEM:

STORAGE:

Computerized records are stored in an internal database format. Hard copy records may be stored in individual file folders and file cabinets with controlled access, and/or other appropriate GSA-approved security containers.

RETRIEVABILITY:

Individual records are accessed by use of data-retrieval capabilities of computer software acquired and developed for processing information in the OCDETF MIS. (Hard copy formats are accessed via manual retrieval.) Records are generally retrieved by case number, but can also be retrieved through a number of criteria, including personally identifiable information such as name and social security number.

SAFEGUARDS:

These records are housed in a secure space restricted to DOJ employees and other authorized personnel, and to those persons transacting business with the DOJ who are escorted by DOJ or other authorized personnel. Paper files are stored in file cabinets in locked offices. Physical and electronic access to the system is safeguarded in accordance with DOJ rules and policies governing automated systems security and access, including the maintenance of technical equipment in restricted areas. The system space is secured by intruder alarms and other appropriate physical and electronic security controls. Direct access to the system is password-restricted to DOJ employees, detailees/designees from other federal agencies, and contractors who have a demonstrated and lawful need to know the information in order to perform assigned functions on behalf of the OCDETF Program, who have appropriate security clearances, and who have been specifically authorized access.

RETENTION AND DISPOSAL:

OCDETF MIS data files have been deemed “Permanent” by NARA. A copy of the data maintained for each investigation is required to be transferred to NARA 25 years after the close of the case in accordance with 36 CFR 1228.270, or existing NARA transfer requirements at the time of transfer. Paper copies are to be destroyed five years after the close of each case upon verification of successful conversion and input into the NARA system.

SYSTEM MANAGER AND ADDRESS:

Director, Executive Office for OCDETF, Department of Justice, 950 Pennsylvania Avenue NW., Washington, DC 20530.

NOTIFICATION PROCEDURE:

Same as Record Access Procedures.

RECORD ACCESS PROCEDURES:

A request for access to a record from this system must be submitted in writing and comply with 28 CFR part 16, and should be sent to the Executive Office for OCDETF, U.S. Department of Justice, 1331 Pennsylvania Avenue NW., Suite 1060, Washington, DC 20530-0001. The envelope and the letter should be clearly marked “Privacy Act Access Request.” The request should include a general description of the records sought and must include the requester's full name, current address, and date and place of birth. The request must be signed and dated and either notarized or submitted under penalty of perjury. While no specific form is required, requesters may obtain a form (Form DOJ-361) for use in certification of identity from the FOIA/Privacy Act Mail Referral Unit, Justice Management Division, United States Department of Justice, 950 Pennsylvania Avenue NW., Washington, DC 20530-0001, or from the Department's Web site at http://www.justice.gov/oip/forms/cert_ind.pdf. As described below in the section entitled “Exemptions Claimed for the System,” the Attorney General has exempted this system of records from the notification, access, and amendment provisions of the Privacy Act. These exemptions apply only to the extent that the information in this system is subject to exemption pursuant to 5 U.S.C. 552a(j) and/or (k). An individual who is the subject of a record in this system may seek access to those records that are not exempt from the access provisions. A determination whether a record may be accessed will be made at the time a request is received.

CONTESTING RECORD PROCEDURES:

Individuals seeking to contest or amend information maintained in the system should direct their requests to the address indicated in the “Record Access Procedures” section, above. The request must comply with 28 CFR 16.46, and state clearly and concisely what information is being contested, the reasons for contesting it, and the proposed amendment of the information. Some information may be exempt from the amendment provisions. An individual who is the subject of a record in this system may seek amendment of those records that are not exempt. A determination whether a record may be amended will be made at the time a request is received.

RECORD SOURCE CATEGORIES:

Sources of information contained in this system include federal, state, local, tribal, territorial, and foreign law enforcement agencies, informants, members of the public, the public media, and the private sector, including commercial data brokers.

EXEMPTIONS CLAIMED FOR THE SYSTEM:

The Attorney General has exempted this system from subsections (c)(3) and (4); (d)(1), (2), (3), and (4); (e)(1), (2), and (3), (4)(G), (H), and (I), (5), and (8); (f); and (g) of the Privacy Act pursuant to 5 U.S.C. 552a(j) and (k). Rules have been promulgated in accordance with the requirements of 5 U.S.C. 553(b), (c), and (e) and have been published in today's Federal Register.

[FR Doc. 2013-22374 Filed 9-12-13; 8:45 am]

BILLING CODE 4410-CW-P